DEPARTMENT OF ENERGY

Federal Energy Regulatory Commission

Sunshine Act Meeting Notice

April 9, 2009.

The following notice of meeting is published pursuant to section 3(a) of the government in the Sunshine Act (Pub. L. 94-409), 5 U.S.C. 552b:

Agency Holding Meeting: Federal Energy Regulatory Commission.

Date and Time: April 16, 2009, 10 a.m.

Place: Room 2C, 888 First Street, NE., Washington, DC 20426.

Status: Open.

Matters To Be Considered: Agenda. Note—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

947th—Meeting, Regular Meeting, April 16, 2009, 10 a.m.
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | EL09-20-000 | Northeast Utilities Service Company and NSTAR Electric Company.
E-2 | ER08-394-007, ER08-394-009 | Midwest Independent Transmission System Operator, Inc.
E-3 | OMITTED |
E-4 | OMITTED |
E-5 | ER09-467-000 | ISO New England Inc.
E-6 | OMITTED |
E-7 | ER09-149-002 | Southwest Power Pool, Inc.
E-8 | ER09-14-002 | NSTAR Electric Company.
E-9 | ER07-521-006, ER07-521-007, ER07-521-008 | New York Independent System Operator, Inc.
E-10 | EL09-11-000 | Interstate Power and Light Company v. ITC Midwest, LLC.
GAS
G-1 | RM08-1-003, RM07-4-000, RM06-21-000 | Promotion of a More Efficient Capacity Release Market.
G-2 | IS07-75-001, IS08-78-001, IS07-75-002, IS08-78-002 | BP Pipelines (Alaska) Inc.
| IS07-56-001, IS08-62-001, IS07-56-002, IS08-62-002 | ConocoPhillips Transportation Alaska, Inc.
| IS07-55-001, IS08-65-001, IS07-55-002, IS08-65-002 | ExxonMobil Pipeline Company.
| IS07-48-002, IS08-64-001, IS07-48-003, IS08-64-002 | Koch Alaska Pipeline Company LLC.
| IS07-41-001, IS08-53-001, IS07-41-002, IS08-53-002 | Unocal Pipeline Company.
CERTIFICATES
C-1 | CP95-35-001 | EcoEléctrica, L.P.
C-2 | CP08-158-000 | Williston Basin Interstate Pipeline Company.
C-3 | CP08-467-000 | Texas Gas Transmission, LLC.

Kimberly D. Bose,
Secretary.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-8565 Filed 4-10-09; 11:15 am]

BILLING CODE 6717-01-P